SOCIAL SECURITY ADMINISTRATION

[Docket No. SSA-2023-0009]

Agency Information Collection Activities: Proposed Request

The Social Security Administration (SSA) publishes a list of information collection packages requiring clearance by the Office of Management and Budget (OMB) in compliance with Public Law 104-13, the Paperwork Reduction Act of 1995, effective October 1, 1995. This notice includes one new information collection for OMB-approval.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA. Comments: https://www.reginfo.gov/public/do/PRAMain. Submit your comments online referencing Docket ID Number [SSA-2023-0009].

(SSA) Social Security Administration, OLCA, Attn: Reports Clearance Director, 3100 West High Rise, 6401 Security Blvd., Baltimore, MD 21235, Fax: 833-410-1631, Email address: OR.Reports.Clearance@ssa.gov.

Or you may submit your comments online through https://www.reginfo.gov/public/do/PRAMain, referencing Docket ID Number [SSA-2023-0009].

The information collection below is pending at SSA. SSA will submit it to OMB within 60 days from the date of this notice. To be sure we consider your comments, we must receive them no later than May 1, 2023. Individuals can obtain copies of the collection instrument by writing to the above email address.

eSubmit—20 CFR 404.704; 404.1512, 416.912, and 422.505—0960-NEW

Background

From March 17, 2020, through April 7, 2022, because of the Coronavirus (COVID-19) public health emergency, SSA encouraged the public to use our online and automated telephone services while we offered limited in-person services in field offices. The increased volume of documents sent to our field offices presented an enormous challenge to SSA, as we had limited staff on site to process the mail at that time. This limited the time the field office staff had to review and process those submissions or work directly with the public. To lessen the burden on front-line employees and managers, allow staff more time to work with the public and process the information we receive, and to modernize form submission and document intake, we are creating a new service called eSubmit.

eSubmit

SSA is introducing eSubmit, a new way individuals can submit evidence and forms to SSA online. In the digital age, individuals expect to complete transactions online, including submission of documents and forms to government agencies. The agency already offers several self-service specific options for individuals to submit forms and other documents online, including the Electronic Protective Filing Tool, ePFT (OMB No. 0960-0826), internet Social Security Benefits Application, iClaim (OMB No. 0960-0618), and iAppeals (OMB No. 0960-0269 & 0960-0622).

eSubmit is a secure upload portal which respondents will use to submit documents and forms to SSA. To ensure the success of eSubmit, we will roll out the new application in several phases. The first phase will allow respondents to provide select documents (evidence that does not need to be certified or evidence which the agency does not require to be an original, also known collectively as “non original documentation,” and first-party forms that do not require a signature) to SSA electronically. Individuals must provide this information themselves since they will have to authenticate with their own information through one of several authentication methods (i.e., Login.gov, ID.me, or SSA's Public Credentialing and Authentication Process).

During this initial phase for eSubmit, we will ask the individual to be in contact, via a telephone or face-to-face interview, with SSA for a business matter (e.g., filing a claim, performing a redetermination, or updating their personal information). During the interaction, the SSA technician will inform the individual verbally that SSA requires additional information to support their request and will offer the opportunity to provide the information electronically via the eSubmit application. After the individual grants consent to receive an email from SSA, the technician will send an email with the link to eSubmit along with instructions on how to access eSubmit. The system will only make the electronic submission process available for up to 30 days from the date of the email. Concurrently, the system will generate a paper notice containing more details about the request, and the SSA technician will send it through postal mail to the respondent. Once the respondent authenticates and arrives at the eSubmit dashboard, the system will present the respondent with information regarding the items SSA requested for submission (examples of the documentation SSA may request includes forms or non-standardized evidence to support the request [e.g., pay stubs, bank statements, pension award letters, tax documents, child support payment history, etc.]). From this screen, the individual will be able to upload the corresponding files from an electronic device. Once they finish uploading the documents, the respondents must select the Submit button to complete the action and the system will present them with an indicator of success or failure. The system will also notify the technician who requested the document that the document is available for review and consideration. Respondents are first-party individuals who choose to use the internet to conduct business with us.

Type of Request: Request for a new information collection.

Modality of completion | Number of respondents | Frequency of response | Average burden per response (minutes) | Estimated total annual burden (hours) | Average theoretical hourly cost amount (dollars) * | Average wait time for teleservice center (minutes) ** | Total annual opportunity cost (dollars) ***
Internet version | 1,107,658 | 1 | 7 | 129,227 | * $28.01 | ** 19 | *** $13,444,380
* We based these figures on average U.S. worker's hourly wages (based on BLS.gov data, https://www.bls.gov/oes/current/oes_nat.htm).
** We based this figure on average FY 2023 wait times for teleservice centers (approximately 19 minutes per respondent), based on SSA's current management information data.
*** This figure does not represent actual costs that SSA is imposing on recipients of Social Security payments to complete this application; rather, these are theoretical opportunity costs for the additional time respondents will spend to complete the application. There is no actual charge to respondents to complete the application.

Dated: February 23, 2023.
Naomi Sipple,
Reports Clearance Officer, Social Security Administration.

[FR Doc. 2023-04133 Filed 2-28-23; 8:45 am]

BILLING CODE 4191-02-P